DEPARTMENT OF ENERGY

Federal Energy Regulatory Commission

Combined Notice of Filings #1

Take notice that the Commission received the following electric corporate filings:

Docket Numbers: EC12-127-000.

Applicants: Alcoa Power Generating Inc., BAIF U.S. Renewable Power Holdings LLC.

Description: Application for Order Authorizing Transaction Under Section 203 of the Federal Power Act and Request for Waivers of Alcoa Power Generating Inc. and BAIF U.S. Renewable Power Holdings LLC.

Filed Date: 7/31/12.

Accession Number: 20120731-5275.

Comments Due: 5 p.m. ET 8/21/12.

Take notice that the Commission received the following electric rate filings:

Docket Numbers: ER10-2507-002.

Applicants: Westar Energy, Inc.

Description: Non-Material Change in Status Report of Westar Energy, Inc.

Filed Date: 7/31/12.

Accession Number: 20120731-5246.

Comments Due: 5 p.m. ET 8/21/12.

Docket Numbers: ER12-2217-003.

Applicants: Power Dave Fund LLC.

Description: Power Dave Compliance Filing 0731 to be effective 7/31/2012.

Filed Date: 7/31/12.

Accession Number: 20120731-5180.

Comments Due: 5 p.m. ET 8/21/12.

Docket Numbers: ER12-2371-000.

Applicants: Fox Energy Company LLC.

Description: Notice of Succession to be effective 8/1/2012.

Filed Date: 7/31/12.

Accession Number: 20120731-5169.

Comments Due: 5 p.m. ET 8/21/12.

Docket Numbers: ER12-2372-000.

Applicants: EFS Parlin Holdings, LLC.

Description: Notice of Succession to be effective 8/1/2012.

Filed Date: 7/31/12.

Accession Number: 20120731-5171.

Comments Due: 5 p.m. ET 8/21/12.

Docket Numbers: ER12-2373-000.

Applicants: Wolverine Power Supply Cooperative, Inc.

Description: Airport IFA Normal to be effective 7/13/2012.

Filed Date: 7/31/12.

Accession Number: 20120731-5230.

Comments Due: 5 p.m. ET 8/21/12.

Docket Numbers: ER12-2374-000.

Applicants: Tall Bear Group, LLC.

Description: Baseline New to be effective 8/1/2012 under ER12-2374 Filing Type: 400.

Filed Date: 7/31/12.

Accession Number: 20120731-5236.

Comments Due: 5 p.m. ET 8/21/12.

Docket Numbers: ER12-2375-000.

Applicants: New England Power Pool Participants Committee.

Description: Aug 2012 Membership Filing to be effective 7/1/2012.

Filed Date: 7/31/12.

Accession Number: 20120731-5237.

Comments Due: 5 p.m. ET 8/21/12.

Take notice that the Commission received the following electric securities filings:

Docket Numbers: ES12-49-000.

Applicants: Entergy Louisiana, LLC.

Description: Application of Entergy Louisiana, LLC, for authorization under FPA Section 204.

Filed Date: 7/31/12.

Accession Number: 20120731-5245.

Comments Due: 5 p.m. ET 8/21/12.

Docket Numbers: ES12-50-000.

Applicants: Ameren Illinois Company.

Description: Ameren Services Company submits Application of Ameren Illinois Company for Section 204 authorization.

Filed Date: 7/31/12.

Accession Number: 20120731-5272.

Comments Due: 5 p.m. ET 8/21/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2012.
Nathaniel J. Davis, Sr.,
Deputy Secretary.

[FR Doc. 2012-19618 Filed 8-9-12; 8:45 am]

BILLING CODE 6717-01-P